ENVIRONMENTAL PROTECTION AGENCY

[ER-FRL-9011-9]

Environmental Impact Statements; Notice of Availability

Responsible Agency: Office of Federal Activities, General Information (202) 564-7146 or http://www.epa.gov/compliance/nepa/.

Weekly receipt of Environmental Impact Statements.

Filed 11/04/2013 through 11/08/2013.

Pursuant to 40 CFR 1506.9.

Notice: Section 309(a) of the Clean Air Act requires that EPA make public its comments on EISs issued by other Federal agencies. EPA's comment letters on EISs are available at: http://www.epa.gov/compliance/nepa/eisdata.html.

EIS No. 20130329, Draft EIS, FHWA, TX, US 69/Loop 49 North Lindale Reliever Route, Comment Period Ends: 01/20/2014, Contact: Gregory Punske 512-536-5960.

EIS No. 20130330, Final EIS, NRC, 00, Generic—License Renewal of Nuclear Plants (NUREG-1437), Review Period Ends: 12/16/2013, Contact: Jeffrey Rikhoff 301-415-1090.

EIS No. 20130331, Final EIS, USFS, NE., Allotment Management Planning in the Fall River West and Oglala Geographic Areas, Review Period Ends: 12/16/2013, Contact: Robert Novotny 605-745-4107.

EIS No. 20130332, Final EIS, FHWA, CALTRANS, CA, Interstate 5 North Coast Corridor Project, Review Period Ends: 12/16/2013, Contact: Manuel Sanchez 619-699-7336.

EIS No. 20130333, Final EIS, USFS, OR, Fox Canyon Cluster Allotment Management Plans, Review Period Ends: 12/16/2013, Contact: Jeffrey Marszal 541-416-6436.

EIS No. 20130334, Draft EIS, BIA, MA, Mashpee Wampanoag Tribe Fee-to-Trust Acquisition and Casino Project, Comment Period Ends: 12/30/2013, Contact: Chester McGhee 615-564-6500.

EIS No. 20130335, Final EIS, BLM, NV, Pan Mine Project, Review Period Ends: 12/16/2013, Contact: Miles Kreidler 775-289-1893.

EIS No. 20130336, Draft EIS, FHWA, FL, SR 997/SW 177th Avenue/Krome Avenue South, Comment Period Ends: 12/30/2013, Contact: Cathy Kendall 850-553-2225.

EIS No. 20130337, Draft EIS, USACE, CA, Southport Sacramento River Early Implementation Project, Comment Period Ends: 01/06/2014, Contact: Tanis Toland 916-557-6717.

Amended Notices

EIS No. 20130261, Draft Supplement, NPS, CA, Golden Gate National Recreation Area Draft Dog Management Plan, Comment Period Ends: 01/11/2014, Contact: Michael B. Edwards 303-969-2694.

EIS No. 20130324, Final EIS, BLM, CA, Stateline Solar Farm Project, Proposed Final Plan Amendment, Review Period Ends: 12/16/2013, Contact: Jeffery Childers 951-807-6737. Revision to FR Notice Published 11/08/2013; Correction to change Review Period from 02/05/2014 to 12/16/2013.

Dated: November 12, 2013.
Cliff Rader,
Director, NEPA Compliance Division, Office of Federal Activities.

[FR Doc. 2013-27441 Filed 11-18-13; 11:15 am]

BILLING CODE 6560-50-P